DEPARTMENT OF HEALTH AND HUMAN SERVICES

President's Advisory Council for Faith-based and Neighborhood Partnerships

In accordance with section 10(a)(2) of the Federal Advisory Committee Act (Pub. L. 92-463), the President's Advisory Council for Faith-based and Neighborhood Partnerships announces the following meeting:

Name: President's Advisory Council for Faith-based and Neighborhood Partnerships Council Meeting.

Time and Date: January 11th and January 12th from 4-6 p.m. EST.

Place: Meetings will be held via conference call. Please contact Mara Vanderslice for call-in information at mara.vanderslice@hhs.gov.

Status: Open to the public, limited only by the space available. Conference call line will be available.

Purpose: The Council brings together leaders and experts in fields related to the work of faith-based and neighborhood organizations in order to: Identify best practices and successful modes of delivering social services; evaluate the need for improvements in the implementation and coordination of public policies relating to faith- based and other neighborhood organizations; and make recommendations for changes in policies, programs, and practices.

Contact Person For Additional Information: Mara Vanderslice at mara.vanderslice@hhs.gov.

SUPPLEMENTARY INFORMATION: Please contact Mara Vanderslice for more information about how to attend the meeting or join via conference call line.

Agenda: Topics to be discussed include deliberation on draft recommendations for Council report. The call on January 11th will be devoted to the Reform of the Office draft taskforce report. The January 12th call will look at the Economic Recovery and Inter-Religious Cooperation draft taskforce reports.

Dated: December 28, 2009.
Mara L. Vanderslice,
Special Assistant.

[FR Doc. 2010-145 Filed 1-7-10; 8:45 am]

BILLING CODE 4154-07-P